COMMODITY FUTURES TRADING COMMISSION

Sunshine Act Meetings

FEDERAL REGISTER CITATION OF PREVIOUS ANNOUNCEMENT: 70 FR 180.

PREVIOUSLY ANNOUNCED TIME AND DATE OF THE MEETING: 11 a.m., Monday, October 3, 2005.

CHANGES IN THE MEETING: The closed meeting to discuss a Derivatives Clearing Organization Review has been canceled.

CONTACT PERSON FOR MORE INFORMATION: Jean A. Webb, 202-418-5100.

Jean A. Webb,
Secretary of the Commission.

[FR Doc. 05-19822 Filed 9-29-05; 12:29 pm]

BILLING CODE 6351-01-M